DEPARTMENT OF ENERGY

Federal Energy Regulatory Commission

Combined Notice of Filings #1

Take notice that the Commission received the following exempt wholesale generator filings:

Docket Numbers: EG25-494-000.

Applicants: Corby Energy Storage, LLC.

Description: Corby Energy Storage, LLC submits Notice of Self-Certification of Exempt Wholesale Generator Status.

Filed Date: 8/22/25.

Accession Number: 20250822-5028.

Comment Date: 5 p.m. ET 9/12/25.

Docket Numbers: EG25-495-000.

Applicants: Roadhouse Energy Storage, LLC.

Description: Roadhouse Energy Storage, LLC submits Notice of Self-Certification of Exempt Wholesale Generator Status.

Filed Date: 8/22/25.

Accession Number: 20250822-5033.

Comment Date: 5 p.m. ET 9/12/25.

Docket Numbers: EG25-496-000.

Applicants: Desert Sands Energy Storage II, LLC.

Description: Desert Sands Energy Storage II, LLC submits Notice of Self-Certification of Exempt Wholesale Generator Status.

Filed Date: 8/22/25.

Accession Number: 20250822-5038.

Comment Date: 5 p.m. ET 9/12/25.

Docket Numbers: EG25-497-000.

Applicants: Grace Orchard Solar III, LLC.

Description: Grace Orchard Solar III, LLC submits Notice of Self-Certification of Exempt Wholesale Generator Status.

Filed Date: 8/22/25.

Accession Number: 20250822-5039.

Comment Date: 5 p.m. ET 9/12/25.

Docket Numbers: EG25-498-000.

Applicants: Yellow Pine Solar III, LLC.

Description: Yellow Pine Solar III, LLC submits Notice of Self-Certification of Exempt Wholesale Generator Status.

Filed Date: 8/22/25.

Accession Number: 20250822-5040.

Comment Date: 5 p.m. ET 9/12/25.

Docket Numbers: EG25-500-000.

Applicants: Grace Orchard Solar Interconnection, LLC.

Description: Grace Orchard Solar Interconnection, LLC submits Notice of Self-Certification of Exempt Wholesale Generator Status.

Filed Date: 8/22/25.

Accession Number: 20250822-5080.

Comment Date: 5 p.m. ET 9/12/25.

Take notice that the Commission received the following electric rate filings:

Docket Numbers: ER24-330-003.

Applicants: Arizona Public Service Company.

Description: Compliance filing: Amendment to Order Nos. 2023 and 2023-A Compliance Filing to be effective 12/4/2023.

Filed Date: 8/22/25.

Accession Number: 20250822-5118.

Comment Date: 5 p.m. ET 9/12/25.

Docket Numbers: ER25-2335-001.

Applicants: Martin County Solar Project, LLC.

Description: Tariff Amendment: Response to Deficiency (ER25-2335-) to be effective 7/24/2025.

Filed Date: 8/21/25.

Accession Number: 20250821-5135.

Comment Date: 5 p.m. ET 9/11/25.

Docket Numbers: ER25-3039-000.

Applicants: AL Solar G, LLC.

Description: Report Filing: Al Solar G MBR Supplemental Filing to be effective N/A.

Filed Date: 8/22/25.

Accession Number: 20250822-5142.

Comment Date: 5 p.m. ET 9/2/25.

Docket Numbers: ER25-3254-000.

Applicants: Elk Creek Solar, LLC, Elk Creek Solar 2, LLC.

Description: Request for Prospective Tariff Waiver, et al. of Elk Creek Solar, LLC.

Filed Date: 8/20/25.

Accession Number: 20250820-5199.

Comment Date: 5 p.m. ET 9/10/25.

Docket Numbers: ER25-3258-000.

Applicants: Carousel Wind III, LLC.

Description: § 205(d) Rate Filing: Application for Market-Based Rate Authorization to be effective 10/21/2025.

Filed Date: 8/21/25.

Accession Number: 20250821-5125.

Comment Date: 5 p.m. ET 9/11/25.

Docket Numbers: ER25-3259-000.

Applicants: Carousel Wind IV, LLC.

Description: § 205(d) Rate Filing: Application for Market-Based Rate Authorization to be effective 10/21/2025.

Filed Date: 8/21/25.

Accession Number: 20250821-5127.

Comment Date: 5 p.m. ET 9/11/25.

Docket Numbers: ER25-3260-000.

Applicants: Lightstone Marketing LLC.

Description: § 205(d) Rate Filing: Notice of Succession to be effective 8/22/2025.

Filed Date: 8/21/25.

Accession Number: 20250821-5142.

Comment Date: 5 p.m. ET 9/11/25.

Docket Numbers: ER25-3261-000.

Applicants: PJM Interconnection, L.L.C.

Description: § 205(d) Rate Filing: Amendment to ISA, Service Agreement No. 7055; Queue Position No. AE2-262/AE2-263 to be effective 10/22/2025.

Filed Date: 8/22/25.

Accession Number: 20250822-5022.

Comment Date: 5 p.m. ET 9/12/25.

Docket Numbers: ER25-3262-000.

Applicants: Olympus Phase 1, LLC.

Description: § 205(d) Rate Filing: Olympus Phase 1, LLC Co-Tenancy SFA to be effective 8/23/2025.

Filed Date: 8/22/25.

Accession Number: 20250822-5074.

Comment Date: 5 p.m. ET 9/12/25.

Docket Numbers: ER25-3263-000.

Applicants: Midcontinent Independent System Operator, Inc., Ameren Transmission Company of Illinois.

Description: § 205(d) Rate Filing: Ameren Transmission Company of Illinois submits tariff filing per 35.13(a)(2)(iii: 2022-12-06_SA 3937 & SA 3938 ATXI-Sikeston Agreements to be effective 10/22/2025.

Filed Date: 8/22/25.

Accession Number: 20250822-5094.

Comment Date: 5 p.m. ET 9/12/25.

Docket Numbers: ER25-3264-000.

Applicants: Pacific Gas and Electric Company.

Description: § 205(d) Rate Filing: WDT SA 3: Port of Oakland C Sub to SS-E-2 Sub to be effective 8/4/2025.

Filed Date: 8/22/25.

Accession Number: 20250822-5098.

Comment Date: 5 p.m. ET 9/12/25.

Docket Numbers: ER25-3265-000.

Applicants: Jackalope Wind, LLC.

Description: § 205(d) Rate Filing: Jackalope Wind MBR Application to be effective 10/22/2025.

Filed Date: 8/22/25.

Accession Number: 20250822-5104.

Comment Date: 5 p.m. ET 9/12/25.

Docket Numbers: ER25-3267-000.

Applicants: Olympus Phase 2, LLC.

Description: § 205(d) Rate Filing: Olympus Phase 2, LLC Co-Tenancy SFA Concurrence to be effective 8/23/2025.

Filed Date: 8/22/25.

Accession Number: 20250822-5133.

Comment Date: 5 p.m. ET 9/12/25.

Docket Numbers: ER25-3268-000.

Applicants: Olympus Phase 3, LLC.

Description: § 205(d) Rate Filing: Olympus Phase 3, LLC Co-Tenancy SFA Concurrence to be effective 8/23/2025.

Filed Date: 8/22/25.

Accession Number: 20250822-5134.

Comment Date: 5 p.m. ET 9/12/25.

Docket Numbers: ER25-3269-000.

Applicants: Milford Gen Lead, LLC.

Description: § 205(d) Rate Filing: Amended and Restated LGIA and Request for Expedited Action to be effective 10/22/2025.

Filed Date: 8/22/25.

Accession Number: 20250822-5152.

Comment Date: 5 p.m. ET 9/12/25.

Take notice that the Commission received the following electric reliability filings:

Docket Numbers: RR25-5-000.

Applicants: North American Electric Reliability Corporation.

Description: Request of North American Electric Reliability Corporation for Acceptance of 2026 Business Plans and Budgets of NERC and Regional Entities and for Approval of Proposed Assessments to Fund Budgets.

Filed Date: 8/22/25.

Accession Number: 20250822-5082.

Comment Date: 5 p.m. ET 9/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 22, 2025.
Carlos D. Clay,
Deputy Secretary.

[FR Doc. 2025-16394 Filed 8-26-25; 8:45 am]

BILLING CODE 6717-01-P